DEPARTMENT OF ENERGY

Federal Energy Regulatory Commission

[Project No. 14241-000]

Alaska Energy Authority; Notice Soliciting Comments on Request To Lift the ILP Abeyance and Approve Proposed Modifications to the ILP Plan and Schedule

On August 26, 2015, Alaska Energy Authority (AEA), prospective license applicant for the proposed Susitna-Watana Hydroelectric Project No. 14241, requested that Commission staff: (1) Lift the Integrated Licensing Process (ILP) abeyance granted to AEA for its proposed project on January 8, 2015; and (2) approve AEA's proposed modifications to the ILP plan and schedule. These requests, including the proposed process plan and schedule modifications, can be viewed at http://elibrary.ferc.gov/idmws/common/OpenNat.asp?fileID=13969092.

The Commission is soliciting comments on these requests. Any comments should be filed within 30 days from the date of this notice. Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE., Washington, DC 20426. The first page of any filing should include docket number P-14241-000.

For further information, contact Nick Jayjack at (202) 502-6073.

Dated: September 9, 2015.
Kimberly D. Bose,
Secretary.

[FR Doc. 2015-23147 Filed 9-14-15; 8:45 am]

BILLING CODE 6717-01-P